DEPARTMENT OF DEFENSE

Office of the Secretary

32 CFR Part 68

Provision of Free Public Education for Eligible Children Pursuant to Section 6, Public Law 81-874

AGENCY: Department of Defense.

ACTION: Final rule.

SUMMARY: The Department of Defense is removing 32 CFR Part 68, “Provision of Free Public Education for Eligible Children Pursuant to Section 6, Public Law 81-874.” The part has served the purpose for which it was intended and is no longer valid.

DATES: Effective Date: December 11, 2007.

FOR FURTHER INFORMATION CONTACT: L.M. Bynum, 703-696-4970.

SUPPLEMENTARY INFORMATION: DoD Directive 1342.16 was originally codified as 32 CFR Part 68. This Directive was canceled by DoD Directive 1342.20. Copies of DoD Directive 1342.20 may be obtained at http://www.dtic.mil/whs/directives/.

List of Subject in 32 CFR Part 68

Elementary and secondary education, Government employees, Military personnel.

Accordingly, by the authority of 10 U.S.C. 301, title 32 of the Code of Federal Regulations is amended by removing part 68:

PART 68—[REMOVED]

Dated: December 5, 2007.
L.M. Bynum,
Alternate OSD Federal Register Liaison Officer, DoD.

[FR Doc. 07-6006 Filed 12-10-07; 8:45 am]

BILLING CODE 5001-06-M